DEPARTMENT OF HEALTH AND HUMAN SERVICES

Substance Abuse and Mental Health Services Administration (SAMHSA)

Notice of a Meeting

Pursuant to Public Law 92-463, notice is hereby given of a meeting of the Substance Abuse and Mental Health Services Administration (SAMHSA) National Advisory Council in February 2001.

The SAMHSA National Advisory Council meeting will be open and will include a summary and discussion on the implementation of SAMHSA's reauthorization legislation, discussions on SAMHSA's 2001 and 2002 budget, on appropriations and transition issues, on homeless funding issues and options, on SAMHSA's relationships with its Constituency Organizations and a report on the evaluation of SAMHSA's peer review process. In addition, there will be a discussion on ways in which SAMHSA can expand communication with the National Institute of Mental Health, the National Institute on Drug Abuse, the National Institute on Alcohol Abuse and Alcoholism, and their National Advisory Councils. Finally, there will be a discussion on the SAMHSA Council and its eight workgroups.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: Thursday, February 8, 2001, 9:00 a.m. to 4:50 p.m. (Open); Friday, February 9, 2001, 8:30 a.m. to 12:00 p.m. (Open).

Place: Bethesda Holiday Inn, 8120 Wisconsin Avenue, Bethesda, Maryland 20814.

Contact: Toian Vaughn, Executive Secretary, 5600 Fishers Lane, Parklawn Building, Room 17-89, Rockville, MD 20857, Telephone: (301) 443-7016; FAX: (301) 443-1587 and e-mail: TVaughn@samhsa.gov.

Dated: January 10, 2001.
Toian Vaughn,
Committee Management Officer, SAMHSA.

[FR Doc. 01-1568 Filed 1-19-01; 8:45 am]

BILLING CODE 4162-20-P